DEPARTMENT OF THE INTERIOR

Bureau of Land Management

[OR-115-2824-DB; HAG 3-0167]

Notice of Availability of the Timbered Rock Fire Salvage and Elk Creek Watershed Restoration Draft Environmental Impact Statement

AGENCY: Bureau of Land Management, Interior.

ACTION: Notice of availability of the Timbered Rock Fire Salvage and Elk Creek Watershed Restoration Draft Environmental Impact Statement (DEIS).

SUMMARY: In accordance with section 202 of the National Environmental Policy Act of 1969, a DEIS has been prepared by the Bureau of Land Management (BLM), Medford District, to analyze possible salvage opportunities resulting from the Timbered Rock Fire and proposed restoration projects designed to move resource conditions closer to the desired future conditions identified in the Northwest Forest Plan, Elk Creek Watershed Analysis, and the South Cascades Late-Successional Reserve Assessment. The subject lands were designated Late-Successional Reserve in the Northwest Forest Plan. Restoration projects are designed to accelerate establishment or protection of late-successional forest conditions. The DEIS addresses whether to pursue salvage, levels of snags and coarse wood debris to be retained, and restoration projects on BLM-administered lands within and adjacent to the Late-Successional Reserve and Elk Creek Watershed.

DATES: Written comments on the DEIS will be accepted for 60 days from the date the Environmental Protection Agency publishes its Notice of Availability of the DEIS in the Federal Register. Oral and/or written comments may also be presented at public meetings/open houses. These public meetings/open houses will be announced at least 15 days in advance through public notices, media news releases, the Medford District Web site, and/or mailings.

ADDRESSES: Written comments on the document should be addressed to Timbered Rock EIS, 3040 Biddle Road, Medford, Oregon, 97504; or e-mail or110treis@or.blm.gov. Copies will be available at the Jackson and Josephine County libraries, and on the Timbered Rock Fire Salvage and Elk Creek Watershed Restoration Web site at http://www.or.blm.gov/Medford/TimbrockEIS/index.htm. Copies of the DEIS will be mailed to individuals, agencies, or companies who previously requested copies. A limited number of copies of the document will be available at the Medford District Office, 3040 Biddle Road, Medford, Oregon, 97504. If you wish to withhold your name or street address from public review or from disclosure under the Freedom of Information Act, you must state this prominently at the beginning of your written comment. Such requests will be honored to the extent allowed by law. All submissions from organizations and businesses, and from individuals identifying themselves as representatives or officials of organizations or businesses, will be available for public inspection in their entirety. Comment letters may be reprinted in the Final Environmental Impact Statement (FEIS).

FOR FURTHER INFORMATION CONTACT: Jean Williams at (541) 944-6620 or John Bergin at (541) 840-9989.

SUPPLEMENTARY INFORMATION: The DEIS addresses alternatives for possible salvage opportunities and proposed restoration projects designed to move resource conditions closer to the desired future conditions identified in the Northwest Forest Plan, Elk Creek Watershed Analysis, and the South Cascades Late-Successional Reserve Assessment (LSRA). Two types of salvage, area and roadside, are discussed in Alternatives C through G. Alternatives A and B propose no salvage. Alternatives C through G were designed using specific guidance relating to post-fire salvage and/or Late-Successional Reserve guidelines. Research could be incorporated within each of the salvage alternatives. Included in the design of Alternative G is a study of the effects of various snag retention levels on wildlife species. Roadside salvage is designed to reduce existing or potential public safety concerns while recovering economic value of these dead trees.

Four levels of restoration projects are proposed in the six action alternatives: Focused, moderate, extensive, and focused within the fire perimeter only. The restoration varies by the scope of the projects (acres, miles of roads, etc.), intensity of the treatments, and location of the treatments. Restoration projects are located both within the Timbered Rock Fire perimeter and outside the fire area. Most projects are located within the Elk Creek Watershed; however, a proposed eagle nest project and some fuel management zone projects are located on ridge tops within adjacent watersheds. Projects are based on recommendations presented in the Late-Successional Reserve Assessment and/or Elk Creek Watershed Analysis, or were developed to address specific issues.

Projects proposed within the fire area focus on road projects to reduce existing and potential sedimentation from the road network, fish improvement projects, development of Fuel Management Zones, and reducing future hazardous fuel conditions within existing Northern Spotted Owl activity centers. Reforestation of the burned area was assessed in the Emergency Stabilization/Rehabilitation Plan Environmental Assessment. Alternatives A and E follow these recommendations. Other approaches to reforestation are presented in Alternatives B, C, D, F, and G. A reforestation study is included which would evaluate a variety of planting densities, species, and follow-up treatments in both salvage and unsalvaged areas. This reforestation research could be incorporated into any alternative.

Alternative A (No Action, Continuation of current management) follows the Emergency Stabilization/Rehabilitation Plan as planned for the Timbered Rock Fire. No restoration projects are proposed, but rehabilitation and stabilization projects proposed in the Timbered Rock Fire Rehabilitation/Stabilization Project Environmental Assessment would be implemented.

Emphasis of Alternative B (No Salvage and Focused Restoration Emphasis) is placed on reducing non-commercial size vegetative competition in over-stocked stands with density management treatments, fuels reduction treatments, and pine habitat restoration. Areas proposed for treatment are generally those in most need of reducing competing vegetation. Within the fire perimeter, restoration would focus on high priority road work. Restoration actions would focus on non-commercial projects, designed to accelerate the growth of trees in stands to promote late-successional conditions with a variety of size classes. Species diversity would be maintained to promote connectivity between owl activity sites and develop late-successional forest characteristics.

In Alternative C (Salvage Following South Cascade Late-Successional Reserve Assessment Guidelines and Moderate Restoration Emphasis), area salvage emphasis is proposed in high and moderate burn severity areas greater than 10 acres where the fire resulted in a stand-replacement event. Alternative C salvage is based on guidelines from the Late-Successional Reserve Assessment for snag and coarse woody debris retention. Restoration projects include fish habitat improvement, Late-Successional Reserve thinning, pine and oak woodlands restoration, reforestation of stand-replacement areas greater than 5 acres, fuels reduction along ridgelines, wildlife habitat enhancement projects, and road improvement projects.

In Alternative D (Late-Successional Reserve Guidelines for Salvage Using DecAID Wood Advisor Tool for Snags and Coarse Woody Debris (CWD) and Moderate Restoration Emphasis), area salvage emphasis is proposed in high and moderate burn severity areas greater than 10 acres where the fire resulted in a stand-replacement event. Instead of following LSRA salvage guidelines, snag and coarse woody debris retention levels in this alternative are based on the DecAID Wood Advisor tool. Restoration projects would be the same as Alternative C.

In Alternative E (High Level of Salvage and Extensive Restoration Emphasis), area salvage emphasis is proposed in high, moderate, low and very low burned severity areas. Snag retention levels within the high and moderate burn severity areas would be 6-14 snags/acre. This is based on study by Haggard and Gaines (2001) which found the highest diversity in cavity nesting species and the highest number of nests where snag densities ranged from 6-14 snags/acre. Snag retention within the low and very low burn severity areas with canopy cover greater than 40 percent would be 4 snags/acre. The course woody debris level in this alternative would be a minimum of 120 linear feet/acre. Extensive restoration would increase the scope of the projects (acres, miles of roads, etc.), intensity of the treatments, and location of the treatments identified in Alternative C and D. Alternative E also proposes seasonal closure of some roads.

In Alternative F (Salvage Logging and Post-fire rehabilitation actions consistent with report on Recommendations for Ecologically Sound Post-Fire Salvage Management and Other Post-Fire Treatments on Federal Lands in the West (Beschta et al., 1995)), area salvage emphasis is based on recommendations to avoid severely burned areas, erosive sites, fragile soils, riparian areas, steep slopes, or sites where accelerated erosion is possible. Existing snags and course woody debris levels would be retained on all these areas. Salvage would occur in 3-10 acre patches of fire-killed trees. Within each of these patches, a minimum of 2 acres would be reserved from salvage. The Beschta et al. report does not address actions outside of a burned area. As a result, no Late-Successional Reserve restoration actions are proposed. However, restoration projects within the fire perimeter, consistent with Beschta et al. report are proposed.

In Alternative G (Preferred Alternative—Salvage Including Research and Moderate Restoration Emphasis), area salvage emphasis is based on research to study the effects of various snag levels on selected wildlife species. Sixteen units were selected to be included in this study. These units are generally 30 acres or greater and would be salvaged at various levels. In addition, four control units would not be salvaged. Stand replacement areas (high and moderate burn severity) outside of research units greater than 10 acres would also be considered for salvaging. Snag and course woody debris levels would meet DecAid Wood Advisor recommendations, as well as, other local and regional recommendations. A reforestation study is also included, which would evaluate a variety of planting densities, species, and follow-up treatments in both salvaged and unsalvaged areas. Restoration projects would be the same as Alternatives C and D. Alternative G also proposes seasonal closure of some roads.

It is not the intent of this project to change land use allocations, nor Standard and Guidelines made through the Northwest Forest Plan and later adopted through the Medford District Resource Management Plan. The Preferred Alternative has been determined to be consistent with the Northwest Forest Plan and Medford District Resource Management Plan. However, if alternative E or F is selected as the Preferred Alternative in the Final EIS, a plan amendment may be required.

Mary Smelcer,
Acting District Manager.

[FR Doc. 03-19205 Filed 7-31-03; 8:45 am]

BILLING CODE 4310-33-P